DEPARTMENT OF HOMELAND SECURITY

Coast Guard

33 CFR Part 110

[Docket No. USCG-2012-0159]

RIN 1625-AA01

Anchorages; Captain of the Port Puget Sound Zone, WA

AGENCY: Coast Guard, DHS.

ACTION: Final rule.

SUMMARY: This rule modifies the description of four general anchorages in Puget Sound and decreases the size of five general anchorage areas. These administrative changes clarify for the public the boundaries and requirements of anchorages. This ensures good order and predictability within the anchorages of the Captain of the Port (COTP) Puget Sound zone.

DATES: This rule is effective March 14, 2013.

ADDRESSES: Documents mentioned in this preamble are part of docket [USCG-2012-0159]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Mr. Mark Ashley, Director Vessel Traffic Service Puget Sound, Waterways Management Division, Sector Puget Sound, Coast Guard; telephone 206-217-6046, email Mark.E.Ashley@uscg.mil. If you have questions on viewing or submitting material to the docket, call Renee V. Wright, Program Manager, Docket Operations, telephone 202-366-9826.

SUPPLEMENTARY INFORMATION: This rule modifies the description of four general anchorages in Puget Sound, decreases the size of five general anchorage areas, incorporates 33 CFR 110.229 into 33 CFR 110.230, and renames 33 CFR 110.230.

Table of Acronyms

DHS Department of Homeland Security

FR Federal Register

NPRM Notice of Proposed Rulemaking

A. Regulatory History and Information

The Coast Guard published a notice of proposed rulemaking (NPRM) on October 2, 2012, in the Federal Register (77 FR 60081). The Coast Guard received no public comments in the docket and no requests for public meetings.

B. Basis and Purpose

The legal basis for this rule is: 33 U.S.C. 471, 1221 through 1236, 2030, 2035, 2071; 33 CFR 1.05-1; and Department of Homeland Security Delegation No. 0170.1, which collectively authorize the Coast Guard to define anchorage grounds. The 1976 Puget Sound Area Anchorages rulemaking defined 11 general and explosive anchorages within the greater Puget Sound area. These areas are described using geographic points of land and bearings and ranges as the boundaries. This rule updates existing anchorage descriptions using points of latitude and longitude, which, with the advent of Global Positioning System (GPS), is more practical and accurate. Also, changes to shore side infrastructure, safety and security zones, and environmentally sensitive areas made some anchorage boundaries impractical. This rule remedies such impracticalities by reducing the size of specified anchorages.

C. Discussion of Comments and Changes and the Final Rule

The Coast Guard received no comments in the docket for this rulemaking. We made only one change to the regulation as originally proposed, which was to replace certain text in the Commencement Bay General Anchorage with geographic coordinates. Specifically, we replaced the phrase “to a point bearing 286°T from Hylebos Waterway Light 1 at a distance of 450 yards” with the coordinates “latitude 47°17′18.36″ N, longitude 122°25′04.45″ W.” These are two equivalent ways to discuss the same location. This change is a non-substantive substitution that does not change the size or shape of the anchorage.

Other than the change above, the Coast Guard made no changes to the proposals discussed in the NPRM. This rule adopts them as proposed.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those orders. We do not expect this rule to have significant impact because it is administrative in nature and would not alter current navigational practices on the affected waterway.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

This rule would affect the following entities, some of which may be small entities: The owners or operators of vessels intending to transit this portion of Puget Sound, the Strait of Juan de Fuca, and adjoining waters. Because the changes are only administrative in nature, and will not alter current navigational practices on the affected waterway, the rule will not have significant economic impact on a substantial number of small entities.

3. Assistance for Small Entities

Under section 213(a) of the Small Business Regulatory Enforcement Fairness Act of 1996 (Pub. L. 104-121), we want to assist small entities in understanding this rule. If this rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule does not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA)(42 U.S.C. 4321-4370f), and have determined that this action is one of a category of actions that do not individually or cumulatively have a significant effect on the human environment. This rule involves administrative changes to an anchorage regulation. This rule is categorically excluded from further review under paragraph 34(f) of Figure 2-1 of the Commandant Instruction. An environmental analysis checklist supporting this determination and a Categorical Exclusion Determination are available in the docket where indicated under ADDRESSES. We seek any comments or information that may lead to the discovery of a significant environmental impact from this rule.

List of Subjects in 33 CFR Part 110

Anchorage Grounds.

For the reasons discussed in the preamble, the Coast Guard amends 33 CFR part 110 as follows:

PART 110—ANCHORAGE REGULATIONS

1. The authority citation for part 110 continues to read as follows:

Authority: 33 U.S.C. 471, 1221 through 1236, 2030, 2035, 2071; 33 CFR 1.05-1; Department of Homeland Security Delegation No. 0170.1.

§ 110.229 [Removed]

2. Remove § 110.229.

3. In § 110.230, revise the section heading and paragraph (a) to read as follows:

§ 110.230 Anchorages, Captain of the Port Puget Sound Zone, WA.

(a) Anchorage grounds. All coordinates are expressed in North American Datum 1983.

(1) Freshwater Bay Emergency Anchorage. All waters of Freshwater Bay and adjacent waters shoreward of a line beginning at Observatory Point, latitude 48°09′03″ N, longitude 123°38′12″ W; thence 000°T to latitude 48°09′36″ N, longitude 123°38′12″ W; thence 090°T to latitude 48°09′36″ N, longitude 123°33′27″ W; thence 180°T ending at Angeles Point, latitude 48°09′00″ N, longitude 123°33′27″ W.

(i) This anchorage may only be assigned to vessels experiencing an emergency that requires anchoring. Vessel emergencies include equipment failures, cargo securing, etc. Vessels requiring a customs inspection will not be allowed to anchor in this area.

(ii) [Reserved.]

(2) Bellingham Bay Anchorages—(i) General Anchorage. The waters of Bellingham Bay within a circular area with a radius of 2,000 yards, having its center at latitude 48°44′14.39″, longitude 122°32′26.62″.

(ii) Explosives Anchorage. The waters of Bellingham Bay within a circular area with a radius of 1,000 yards, having its center at latitude 48°42′47.39″, longitude 122°33′41.62″.

(3) Port Townsend Anchorages. (i) Fair weather explosives anchorage area. A circular area having a radius of 300 yards, whose center is at latitude 48°06′25.30″, longitude 122°43′50.60″.

(ii) Foul weather explosives anchorage area. A circular area having a radius of 300 yards, whose center is at latitude 48°04′4.33″, longitude 122°44′56.60″.

(4) Holmes Harbor General Anchorage. All waters of Holmes Harbor lying south of a line between latitude 48°05′50″ N, longitude 122°31′24″ W; thence 311°T to latitude 48°07′03″ N, longitude 122°33′31″ W.

(5) Port Gardner General Anchorage. All waters in a quadrilateral area bounded as follows: Beginning at latitude 47° 58′57″ N, longitude 122°14′05″ W; thence 302°T to latitude 47°59′21.5″ N, longitude 122°15′02″ W; thence 229°T to latitude 47°58′57″ N, longitude 122°15′44″ W; thence 122°T to latitude 47°58′32.5″ N, longitude 122°14′47″ W; thence 048°T to point of origin.

(6) Thorndike Bay Emergency Explosives Anchorage. All waters in a quadrilateral area bounded as follows: Beginning at latitude 47°47′59″ N, longitude 122°43′30″ W; thence 270°T to latitude 47°47′59″ N, longitude 122°44′30″ W; thence 180°T to latitude 47°47′30″ N, longitude 122°44′30″ W; thence 090°T to latitude 47°7′30″ N, longitude 122°43′30″ W, thence 000°T to point of origin.

(7) Elliott Bay Anchorages—(i) Smith Cove West General Anchorage. All waters inside the area beginning at latitude 47°38′20.44″ N, longitude 122°24′48.56″ W; thence 207T to latitude 47°37′51.6″ N, longitude 122°25′10.5″ W; thence 124°T to latitude 47°36′56.2″ N, longitude 122°23′07″ W; thence 000°T to latitude 47°37′59.5″ N, longitude 122°23′07″ W; thence northwest along the shoreline to the point of origin.

(ii) Smith Cove East General Anchorage. All waters inside the area beginning at latitude 47°37′36.2″ N, longitude 122°22′43″ W; thence 180°T to latitude 47°36′56.2″ N, longitude 122°22′43″ W; thence 090°T to latitude 47°36′56.2″ N, longitude 122°21′22.5″ W, thence northwest along the shoreline to the point of origin.

(iii) Elliott Bay East General Anchorage. All waters inside the area beginning at latitude 47°35′25.8″ N, longitude 122°20′45.5″ W; thence 000°T to latitude 47°35′55.85″ N, longitude 122°20′45.5″ W; thence 270°T to latitude 47°35′55.85″ N, longitude 122°21′30″ W; thence 180°T to latitude 47°35′19.2″ N, longitude 122°21′30″ W; thence east along the shoreline to the point of origin.

(iv) Elliott Bay West General Anchorage. All waters inside the area beginning at latitude 47°35′30″ N, longitude 122°21′41″ W, thence 000°T to latitude 47°35′45.5″ N, longitude 122°21′41″ W; thence 336°T to latitude 47°35′55.85″ N, longitude 122°21′48.5″ W; thence 270°T to latitude 47°35′55.85″ N, longitude 122°23′16.46″ W, thence 180°T to Duwamish Head thence southeast following the shoreline to latitude 47°35′30″ N, longitude 122°22′54.5″ W; thence 090°T to the point of origin.

(8) Yukon Harbor General Anchorage. All waters inside the area beginning at latitude 47°33′54.66″ N, longitude 122°31′54.68″ W; thence 106°T to latitude 47°33′23″ N, longitude 122°29′05″ W; thence 180°T to latitude 47°32′39.5″ N, longitude 122°29′05″ W; thence south along the eastern shoreline of Blake Island to latitude 47°31′48″ N, longitude 122°29′21″ W; thence 250°T to latitude 47°31′20.5″ N, longitude 122°31′10″ W; thence west and north along the Kitsap Peninsula shoreline to the point of origin.

(9) Cherry Point General Anchorage. The waters within a circular area with a radius of 1600 yards, having its center at latitude 48°48′29.39″ N, longitude 122°46'04.66” W.

(10) Anacortes General Anchorages. (i) Anacortes East (ANE) Anchorage. The waters within a circular area with a radius of 600 yards, having its center at 48°31′27″ N., 122°33′45″ W.

(ii) Anacortes Center (ANC) Anchorage. The waters within a circular area with a radius of 600 yards, having its center at 48°30′54″ N, 122°34′06″ W.

(iii) Anacortes West (ANW) Anchorage. The waters within a circular area with a radius of 600 yards, having its center at 48°31′09″ N, 122°34′55″ W.

(11) Cap Sante Tug and Barge General Anchorage. The Cap Sante Tug and Barge General Anchorage includes all waters enclosed by a line connecting the following points: 48°31′16″ N, 122°36′00″ W, which is approximately the northeast tip of Cap Sante; then southeast to 48°30′53″ N, 122°35′28″ W; then west southwest to 48°30′45″ N, 122°35′52″ W, approximately the south tip of Cap Sante; then north along the shoreline to the point of origin.

(12) Hat Island Tug and Barge General Anchorage. The Hat Island Tug and Barge General Anchorage includes all waters enclosed by a line connecting the following points: 48°31′19″ N, 122°33′04″ W, near the west side of Hat Island; then southwest to 48°30′37″ N, 122°33′38″ W; then east to 48°30′37″ N, 122°32′00″ W; then northwest to the point of origin.

(13) Commencement Bay General Anchorage. A quadrilateral area bounded as follows: Beginning at latitude 47°17′36.36″ N, longitude 122°26′04.45″ W; thence due south to latitude 47°17′18.36″ N, longitude 122°26′04.45″ W; thence due east to latitude 47° 17′18.36″ N, longitude 122°25′04.45″ W; thence due north to latitude 47°17′32.36″ N, longitude 122°25′04.45″ W; thence west northwest to the point of origin.

(14) Non-anchorage area Port Angeles Harbor. Beginning at a point on the shore at latitude 48°07′03.83″ N, longitude 123°24′20.67″ W; thence to latitude 48°07′38.43″ N, longitude 123°24′04.67″ W; thence to latitude 48°07′36.03″ N, longitude 123°23′50.67″ W; thence to a point on the shoreline at latitude 48°06′56.73″ N, longitude 123°24′08.67″ W.

(i) No vessel may anchor in this non-anchorage area at any time.

(ii) Dragging, seining, fishing, or other activities which may foul underwater installations within this non-anchorage area are prohibited.

(iii) Vessels may transit this non-anchorage area, but must proceed by the most direct route and without unnecessary delay.

Note to paragraph (a)(14): The city of Port Angeles will mark this area with signs on the shoreline visible (during normal daylight) 1 mile to seaward reading, “Do not Anchor in This Area.”

* * * * *

Dated: January 12, 2013.
K.A. Taylor,
Rear Admiral, U.S. Coast Guard, Commander, Thirteenth Coast Guard District.

[FR Doc. 2013-03121 Filed 2-11-13; 8:45 am]

BILLING CODE 9110-04-P